ENVIRONMENTAL PROTECTION AGENCY

[ER-FRL-6696-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070518, ERP No. D-COE-D40340-PA, Southern Beltway Transportation Project, Transportation Improvement between I-79 to Mon/Fayette Expressway (PA Turnpike 43), Application for U.S. Army COE section 404 Permit, Washington County, PA.

Summary: EPA expressed environmental concerns about potential impacts to wetlands, air quality, and environmental justice communities. Rating EC2.

EIS No. 20070529, ERP No. D-NCP-D61060-DC, Smithsonian Institution National Museum of African American History and Culture, Construction and Operation, Between 14th and 15th Streets, NW., and Constitution Avenue, NW., and Madison Drive, NW., Washington, DC.

Summary: EPA expressed environmental concerns about potential impacts to air quality and suggested the final EIS recommend use of ultra-low sulfur diesel fuel and particulate filters on construction equipment and that all Build Alternatives apply low impact development and green building technologies. The final EIS should provide information on the site selection process, environmental justice, and how this project's impacts relate to other projects under the new plan for the National Mall. Rating EC2.

Final EISs

EIS No. 20070546, ERP No. F-IBR-J28022-00, Red River Valley Water Supply Project, Development and Delivery of a Bulk Water Supply to meet Long-Term Water Needs of the Red River Valley, Implementation, ND and MN.

Summary: While EPA expressed concern about any project involving the inter-basin transfer of water, EPA is confident that the additional refinements that have been made to the project treatment and design and the application of mitigation measures that have been identified will further reduce the potential environmental impacts of the preferred alternative. EPA is prepared to work with Reclamation and the State of North Dakota during the engineering phase and adaptive management process.

EIS No. 20080012, ERP No. F-NAS-A12044-00, PROGRAMMATIC—Constellation Program, Develop the Flight Systems and Earth-based Ground Infrastructure for Future Missions, International Space Station, The Moon, Mars, and Beyond, Brevard and Volusia Counties, FL; Hancock County, MS; Orlean Parish, LA; Harris County, TX; Madison County, AL; Cuyahoga and Erie Counties, OH; Hampton, VA; Santa Clara County, CA; Dona Ana and Otero Counties, NM; and Box Elder and Davis Counties, UT.

Summary: No formal comment letter was sent to the preparing agency.

EIS No. 20080024, ERP No. F-AFS-L61218-ID, Frank Church—River of No Return Wilderness (FC-RONRW), Noxious Weed Treatments, Updated Information to Supplement the 1999 Final EIS for FC-RONRW, Implementation, Bitterroot, Boise, Nez Perce, Payette, and Salmon-Challis National Forests, ID.

Summary: No formal comment letter was sent to the preparing agency.

Dated: February 26, 2008.
Robert W. Hargrove,
Director, NEPA Compliance Division Office of Federal Activities.

[FR Doc. E8-3937 Filed 2-28-08; 8:45 am]

BILLING CODE 6560-50-P